DEPARTMENT OF EDUCATION

President's Board of Advisors on Historically Black Colleges and Universities

AGENCY: Office of Undersecretary, President's Board of Advisors on Historically Black Colleges and Universities, U.S. Department of Education.

ACTION: Announcement of an open meeting.

SUMMARY: This notice sets forth the agenda for the September 23, 2020, meeting of the President's Board of Advisors on Historically Black Colleges and Universities (PBA) and provides information to members of the public about the meeting. Notice of the meeting is required by Section 10(a)(2) of the Federal Advisory Committee Act (FACA) and is intended to notify the public of its opportunity to attend.

DATES: The PBA meeting will be held on Wednesday, September 23, 2020 from 9 a.m. to 11:00 a.m. E.D.T. The meeting will be a virtual meeting via webinar. Please note admittance instructions under the SUPPLEMENTARY INFORMATION section of this notice.

FOR FURTHER INFORMATION CONTACT: Sedika Franklin, Designated Federal Official, U.S. Department of Education, White House Initiative on Historically Black Colleges and Universities, 400 Maryland Avenue SW, Washington, DC 20202; telephone: (202) 453-5630, or email sedika.franklin@ed.gov.

SUPPLEMENTARY INFORMATION:

PBA's Statutory Authority and Function: The PBA is established by Executive Order 13779 (February 28, 2017) and is continued by Executive Order 13889 (September 27, 2019). The PBA is also governed by the provisions of the FACA (5 U.S.C. App. 2), which sets forth standards for the formation and use of advisory committees. The purpose of the PBA is to advise the President, through the White House Initiative on Historically Black Colleges and Universities (Initiative), on all matters pertaining to strengthening the educational capacity of Historically Black Colleges and Universities (HBCUs).

The PBA shall advise the President, through the Initiative, on all matters pertaining to strengthening the educational capacity of HBCUs, in particular, in the following areas: (i) Improving the identity, visibility, and distinctive capabilities and overall competitiveness of HBCUs; (ii) engaging the philanthropic, business, government, military, homeland-security, and education communities in a national dialogue regarding new HBCU programs and initiatives; (iii) improving the ability of HBCUs to remain fiscally secure institutions that can assist the nation in reaching its goal of having the highest proportion of college graduates by 2020; (iv) elevating the public awareness of HBCUs; and (v) encouraging public-private investments in HBCUs.

Meeting Agenda: The meeting agenda will include welcome remarks; an update from the U.S. Department of Education; a presentation on The Future of Higher Education and U.S. Competitiveness; an update from the White House Initiative on HBCU; and member discussion. The public comment period will begin immediately following these agenda items. The final agenda will be posted on the PBA page at: https://sites.ed.gov/whhbcu/commissioners-profile/presidents-board-of-advisors-on-historically-black-colleges-and-universities-2018-to-present/meetings-and-minutes/.

Members of the public who wish to attend the webinar meeting must follow the instructions noted below. RSVPs must be received by 5 p.m. on September 21, 2020. A RSVP should include the name(s), title, organization/affiliation, and email address, of the person(s) requesting to attend.

Submission of Requests to Participate in Public Comment: The PBA agenda will include a public comment period for the public to submit questions or comments to the PBA. The public comment period will start at 10:30 a.m. on Wednesday, September 23, 2020 and will not exceed ten minutes. Comments will be taken via the chat function on a first-come, first-served basis by the call moderator and will be limited to two minutes per person.

Members of the public who wished to submit a question or comment to be addressed during the public comment period of the meeting but could not be accommodated on the agenda, and those who were unable to attend the meeting via webinar, are invited to submit written statements pertaining to the work of the PBA. All written statements should be directed to by email to the PBA Designated Federal Official, Sedika Franklin, Sedika.franklin@ed.gov.

All written statements and questions or comments made during the public comment period will become part of the official record of the PBA.

Admittance Instructions: All participants will be attending via webinar and must register at: https://ems8.intellor.com/?do=register&t=1&p=830751 by 5 p.m. Eastern Time, September 21, 2020.

Access to Records of the Meeting: The Department will post the official transcript of the meeting on the PBA website 90 days after the meeting at www.ed.gov. Pursuant to FACA, the public may also inspect the materials at 400 Maryland Avenue SW, Washington, DC, by emailing oswhi-hbcu@ed.gov or by calling (202) 453-5634 to schedule an appointment.

Reasonable Accommodations: The webinar meeting is accessible to individuals with disabilities. If you will need an auxiliary aid or service to participate in the meeting (e.g., interpreting service, assistive listening device, or materials in an alternate format), notify the contact person listed in FOR FURTHER INFORMATION CONTACT section of this notice by September 6, 2020. We will attempt to meet all requests received by the due date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Executive Order 13779, Continued by Executive Order 13889.

Diane Auer Jones,
Principal Deputy Under Secretary delegated the duties of Under Secretary.

[FR Doc. 2020-19320 Filed 9-1-20; 8:45 am]

BILLING CODE 4000-01-P